ENVIRONMENTAL PROTECTION AGENCY

[EPA-HQ-ORD-2008-0054; FRL-8541-8]

Board of Scientific Counselors, Homeland Security Subcommittee Meetings—Spring 2008

AGENCY: Environmental Protection Agency (EPA).

ACTION: Notice of meetings.

SUMMARY: Pursuant to the Federal Advisory Committee Act, Public Law 92-463, the Environmental Protection Agency, Office of Research and Development (ORD), gives notice of three meetings of the Board of Scientific Counselors (BOSC) Homeland Security Subcommittee.

DATES: The first meeting (teleconference call) will be held on Wednesday, April 23, 2008, from 3 p.m. to 5 p.m. The second meeting (teleconference call) will be held on Wednesday, May 7, 2008, from 3 p.m. to 5 p.m. The third meeting (three day face-to-face meeting) will be held on Wednesday, May 28, 2008, from 1 p.m. to 5 p.m.; Thursday, May 29, 2008, from 9 a.m. to 3:30 p.m.; and Friday, May 30, 2008, 11 a.m. to 2 p.m. The meeting will be closed to the public on Wednesday, May 28, from 9 a.m. to 12 p.m., and Friday, May 30, from 8 a.m. to 9 a.m. All times noted are eastern time. The meetings may adjourn early if all business is finished. Requests for the draft agenda or for making oral presentations at the meetings will be accepted up to 1 business day before each meeting.

ADDRESSES: Participation in the conference calls will be by teleconference only—meeting rooms will not be used. Members of the public may obtain the call-in number and access code for the calls from Greg Susanke, whose contact information is listed under the FOR FURTHER INFORMATION CONTACT section of this notice. The face to face meeting will be held at the Marriott Kingsgate Conference Hotel, 151 Goodman Street, Cincinnati, Ohio, 45219. Submit your comments, identified by Docket ID No. EPA-HQ-ORD-2008-0054, by one of the following methods:

• http://www.regulations.gov: Follow the on-line instructions for submitting comments.

• E-mail: Send comments by electronic mail (e-mail) to: ORD.Docket@epa.gov, Attention Docket ID No. EPA-HQ-ORD-2008-0054.

• Fax: Fax comments to: (202) 566-0224, Attention Docket ID No. EPA-HQ-ORD-2008-0054.

• Mail: Send comments by mail to: Board of Scientific Counselors, Homeland Security Subcommittee Meeting—Spring 2008 Docket, Mailcode: 28221T, 1200 Pennsylvania Ave., NW., Washington, DC, 20460, Attention Docket ID No. EPA-HQ-ORD-2008-0054.

• Hand Delivery or Courier. Deliver comments to: EPA Docket Center (EPA/DC), Room B102, EPA West Building, 1301 Constitution Avenue, NW., Washington, DC, Attention Docket ID No. EPA-HQ-ORD-2008-0054. Note: this is not a mailing address. Such deliveries are only accepted during the docket's normal hours of operation, and special arrangements should be made for deliveries of boxed information.

Instructions: Direct your comments to Docket ID No. EPA-HQ-ORD-2008-0054. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Board of Scientific Counselors, Homeland Security Subcommittee Meeting—Spring 2008 Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: The Designated Federal Officer via mail at: Greg Susanke, Mail Drop 8104-R, Office of Science Policy, Office of Research and Development, Environmental Protection Agency, 1300 Pennsylvania Ave. NW., Washington, DC 20460; via phone/voice mail at: (202) 564-9945; via fax at: (202) 565-2911; or via e-mail at: susanke.greg@epa.gov.

SUPPLEMENTARY INFORMATION:

General Information

Any member of the public interested in receiving a draft BOSC agenda or making a presentation at a meeting may contact Greg Susanke, the Designated Federal Officer, via any of the contact methods listed in the FOR FURTHER INFORMATION CONTACT section above. In general, each individual making an oral presentation will be limited to a total of three minutes.

Proposed agenda items for the meetings include, but are not limited to: Teleconference #1: The objectives of the review, an overview of ORD's entire research program and an overview of its homeland security research program; Teleconference #2: An overview of the Homeland Security Multi-Year Research Plan, and preparation for the face-to-face meeting; Face-to-Face Meeting: Overview of Multi-Year Plan Long Term Goals, poster session for highlighting and detailing specific research, subcommittee discussions to address subcommittee charge questions, and subcommittee report out of preliminary findings. The meetings are open to the public.

Information on Services for Individuals with Disabilities: For information on access or services for individuals with disabilities, please contact Greg Susanke at (202) 564-9945 or susanke.greg@epa.gov. To request accommodation of a disability, please contact Greg Susanke, preferably at least 10 days prior to the meeting, to give EPA as much time as possible to process your request.

Partially Closed Meeting

EPA ORD is conducting an independent expert review through the BOSC, of its Homeland Security Research Program. The BOSC's Homeland Security Subcommittee will conduct a prospective and retrospective review of ORD's National Homeland Security Research Center's (NHSRC) Research Program, and evaluate the program's relevance, quality, performance, and scientific leadership. The BOSC's evaluation and recommendations will provide guidance to ORD NHSRC.

It is EPA's policy to follow the provisions of the Federal Advisory Committee Act (FACA) for subcommittees of its chartered advisory committees, and to have meetings that are open to the public. However, to allow for the review and discussion of classified national security information, EPA has determined that a portion of the face-to-face meeting on May 28, 2008 (9 a.m. to 12 p.m.) and May 30, 2008 (8 a.m. to 9 a.m.) should be closed to the public pursuant to section 10(d) of the Federal Advisory Committee Act (FACA), 5 U.S.C. App.2, and section (c)(1) of the Government in the Sunshine Act, 5 U.S.C. 552b(c)(1). During the closed portion of the meeting, a review of classified national security information by the subcommittee will provide additional context and explanation for the direction and scope of the research program, as well as for the specific research conducted by NHSRC.

Dated: March 6, 2008.
Stephen L. Johnson,
Administrator.

[FR Doc. E8-5291 Filed 3-14-08; 8:45 am]

BILLING CODE 6560-50-P